DEPARTMENT OF COMMERCE

National Oceanic and Atmospheric Administration

[RTID 0648-XA142]

Pacific Fishery Management Council; Public Meeting; Correction

AGENCY: National Marine Fisheries Service (NMFS), National Oceanic and Atmospheric Administration (NOAA), Commerce.

ACTION: Notice of a correction to a public meeting.

SUMMARY: The Groundfish Subcommittee of the Pacific Fishery Management Council's (Pacific Council's) Scientific and Statistical Committee (SSC) and invited scientific experts will hold a meeting to review proposed length-based assessment methods followed by a workshop to explore data-moderate and data-limited assessment methods. The meeting is open to the public.

DATES: The Assessment Methodology Review webinar will be held from Tuesday, May 12, 2020 through Thursday, May 14, 2020 beginning at 8:30 a.m. and continuing until 5:30 p.m. Pacific Daylight Time each day or until business for the day has been completed.

ADDRESSES: The Assessment Methodology Review meeting will be an online meeting.

Instructions to attend the online meeting:

1. Use this link: https://www.gotomeeting.com/webinar (Then click “Join a Webinar” in top right corner of page)

2. Enter the Webinar ID: 716-313-779

3. Please enter your name and email address (required)

4. You may use your telephone for the audio portion of the meeting by dialing this TOLL number +1 (415) 655-0060

5. Enter the Attendee phone audio access code 904-227-383

6. Enter your audio phone pin (shown after joining the webinar).

Technical Information

System Requirements

• PC-based attendees: Required: Windows® 10,8

• Mac®-based attendees: Required: Mac OS® X 10.5 or newer

• Mobile attendees: Required: iPhone®, iPad®, Android™ phone or Android tablet (See the GoToMeeting Webinar Apps)

You may send an email to Kris Kleinschmidt at (503) 820-2412 or Sandra Krause at (503) 820-2419 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The original notice published in the Federal Register on April 28, 2020 (85 FR 23507). The online information for the meeting has changed from what was published originally.

The purpose of the Assessment Methodology Review meeting is to review two proposed length-based assessment methodologies, a length-based Stock Synthesis (SS) modeling approach and the Length-based Integrated Mixed Effects (LIME) assessment platform. A review of data-moderate and data-limited assessment methods through the management strategy evaluation tool in the Data-Limited Methods ToolKit (DLMtool) will be conducted following the length-based assessment methods review (the draft proposed agenda will be posted on the Pacific Council's website).

No management actions will be decided by the Assessment Methodology Review panel members. The review panel members' role will be development of recommendations and reports for consideration by the SSC and Pacific Council at a future Council meeting.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the Assessment Methodology Review panel members to take final action to address the emergency.

Special Accommodations

This meeting is physically accessible to people with disabilities. Requests for sign language interpretation or other auxiliary aids should be directed to Mr. Kris Kleinschmidt (503) 820-2412 at least 10 days prior to the meeting date.

Authority: 16 U.S.C. 1801 et seq.

Dated: April 30, 2020.
Diane M. DeJames-Daly,
Acting Deputy Director, Office of Sustainable Fisheries, National Marine Fisheries Service.

[FR Doc. 2020-09575 Filed 5-4-20; 8:45 am]

BILLING CODE 3510-22-P